DEPARTMENT OF HEALTH AND HUMAN SERVICES

Centers for Disease Control and Prevention

[30-Day 14-0787]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Personal Flotation Devices (PFDs) and Commercial Fishermen: Preconceptions and Evaluation in Actual Use—Reinstatement with Change (0920-0787, expiration date 8/31/2010)—National Institute for Occupational Safety and Health (NIOSH), Centers for Disease Control and Prevention (CDC).

Background and Brief Description

NIOSH has the responsibility under Public Law 91-596 section 20 (Occupational Safety and Health Act of 1970) to conduct research relating to innovative methods, techniques, and approaches for dealing with occupational safety and health problems.

Commercial fishing is one of the most dangerous occupations in the United States, with a fatality rate 30 times higher than the national average. Most fishermen who die on the job drown subsequent to a vessel sinking (52%) or fall overboard (31%). Because drowning is the leading cause of death for commercial fishermen, its prevention is one of the highest priorities for those who work to make the industry safer.

The risk of drowning for commercial fisherman is high, yet most fishermen do not wear Personal Flotation Devices (PFDs) while on deck. Of the 182 fishermen who died from falls overboard between 2000 and 2011 none of them were wearing a personal flotation device (PFD). Many were within minutes of being rescued when they lost their strength and disappeared under the surface of the water.

NIOSH recently conducted a study to establish a baseline understanding of Alaska fishermen's perceptions of risk, safety attitudes, and beliefs about PFDs; and to evaluate a variety of modern PFDs with commercial fishermen to discover the features and qualities that they like and dislike. Based upon these results, NIOSH developed an intensive risk communication strategy to raise awareness to newer (potentially more satisfactory) PFD models, to address barriers, and to encourage increased PFD use among fishermen working in Alaska.

The purpose of this study is to first, determine if fishermen's perception of risk, safety attitudes, and beliefs about PFDs has shifted or remained the same since the implementation of the initial survey (2008-2009); and second, to evaluate the effectiveness of the NIOSH intensive risk communication intervention.

NIOSH is requesting OMB approval to administer a survey to fishermen operating in Alaska fisheries. This questionnaire will contain questions that measure fishermen's risk perceptions, safety attitudes, and beliefs about PFDs, as well as recognition and influence of NIOSH risk communication activities. The questionnaire will take approximately 20 minutes to complete. Consistent with the previous OMB-approved data collection protocol, the sample size was determined to be 400 total respondents to achieve a 95% confidence level. Two hundred independent respondents will be sampled just prior to the 2014 season and an additional two hundred will be sampled just prior to the 2015 season.

This study has the potential to greatly benefit the fishing industry. As a result of previous research, NIOSH has gained a baseline understanding of fishermen's reasons for not wearing PFDs. With this empirical data at hand, an intensive risk communication intervention has been developed to address fishermen's concerns and remove the barriers that are currently in place.

There are no costs to respondents other than their time. The total estimated annual burden hours are 134.

Estimated Annualized Burden Hours
Type of respondent | Form name | Number of respondents | Number of responses per respondent | Average burden per response (in hrs) | Total burden (in hrs)
Fishermen | 2014 Fishing Season: Fishing for Facts: A survey of fishermen's opinions about the risk of falls overboard and PFDs | 200 | 1 | 20/60 | 67
Fishermen | 2015 Fishing Season: Fishing for Facts: A survey of fishermen's opinions about the risk of falls overboard and PFDs | 200 | 1 | 20/60 | 67

Leroy Richardson,
Chief, Information Collection Review Office, Office of Scientific Integrity, Office of the Associate Director for Science, Office of the Director, Centers for Disease Control and Prevention.

[FR Doc. 2014-05273 Filed 3-11-14; 8:45 am]

BILLING CODE 4163-18-P